GENERAL SERVICES ADMINISTRATION

[Notice-PBS-2015-01; Docket 2015-0002; Sequence 30]

Federal Management Regulation; Redesignation of Federal Building

AGENCY: Public Buildings Service (PBS), General Services Administration.

ACTION: Notice of a bulletin.

SUMMARY: The attached bulletin announces the redesignation of a Federal building.

DATES: This bulletin expires August 26, 2016. The building redesignation remains in effect until canceled or superseded by another bulletin.

FOR FURTHER INFORMATION CONTACT: General Services Administration, Public Buildings Service (PBS), Office of Portfolio Management, Attn: Chandra Kelley, 77 Forsyth Street SW., Atlanta, GA 30303, at 404-562-2763, or by email at chandra.kelley@gsa.gov.

SUPPLEMENTARY INFORMATION: This bulletin announces the redesignation of a Federal building. Public Law 114-48, 129 STAT. 488, dated August 7, 2015, designated the Hollings Judicial Center located at 83 Meeting Street in Charleston, South Carolina as the “J. Waties Waring Judicial Center.”

Dated: February 17, 2016.
Denise Turner Roth,
Administrator of General Services.

General Services Administration

Redesignation of Federal Building

PBS-2015-01

TO: Heads of Federal Agencies

SUBJECT: Redesignation of Federal Building

1. What is the purpose of this bulletin? This bulletin announces the redesignation of a Federal building.

2. When does this bulletin expire? This bulletin announcement expires August 26, 2016. The building designation remains in effect until canceled or superseded by another bulletin.

3. Redesignation. The former and new name of the redesignated building is as follows:

Former name | New name
Hollings Judicial Center, 83 Meeting Street Charleston, SC 29401-2256 | J. Waties Waring Judicial Center, 83 Meeting Street Charleston, SC 29401-2256.

4. Who should we contact for further information regarding redesignation of this Federal building? U.S. General Services Administration, Public Buildings Service, Office of Portfolio Management, Attn: Chandra Kelley, 77 Forsyth Street SW., Atlanta, GA 30303, telephone number: 404-562-2763, or email at chandra.kelley@gsa.gov.

Dated:

Denise Turner Roth,

Administrator of General Services.

[FR Doc. 2016-03963 Filed 2-24-16; 8:45 am]

BILLING CODE 6820-Y1-P